DEPARTMENT OF DEFENSE

Office of the Secretary

Defense Science Board

Correction

In notice document 06-3445 appearing on page 18292 in the issue of Tuesday, April 11, 2006, make the following correction:

In the first column, in the first paragraph, in the seventh line, “June 15, 2006” should read “June 13-15, 2006”.

[FR Doc. C6-3445 Filed 5-9-06; 8:45 am]

BILLING CODE 1505-01-D

DEPARTMENT OF TRANSPORTATION

Federal Aviation Administration

14 CFR Part 39

[Docket No. FAA-2006-23647; Directorate Identifier 2006-CE-06-AD; Amendment 39-14564; AD 2002-11-05 R1]

RIN 2120-AA64

Airworthiness Directives; Air Tractor, Inc. Model AT-501 Airplanes

Correction

In rule document 06-3614 beginning on page 19628 in the issue of Monday, April 17, 2006, make the following corrections:

1. On page 19629, in the first column, under the heading “Discussion”, in the third bulleted paragraph, in the first line, “AD 2001-10-04, R1” should read “AD 2001-10-04 R1”.

2. On the same page, in the second column, in the first line, “AD 2000-14-51.” should read “AD 2000-14-51:”.

3. On the same page, in the same column, in the second paragraph, in the fourth line, “and AT-500”should read “AT-500”.

§ 39.13 [Corrected]

4. On page 19631, in § 39.13(c)(3), in the eighth line, “Ad” should read “AD”.

5. On the same page, in § 39.13(e), in the second column of Table 3, in the fifth line, “AD 2002-2002-11” should read “AD 2002-11”.

Appendix to AD 2002-11-05 R1 [Corrected]

6. On page 19633, in Appendix to AD 2002-11-05 R1, in the second column, in numbered paragraph 2, in the first line, “you” should read “your”.

7. On the same page, in the same appendix, in the same column, in numbered paragraph 7, in the first line, “your” should read “you”.

[FR Doc. C6-3614 Filed 5-9-06; 8:45 am]

BILLING CODE 1505-01-D

DEPARTMENT OF THE TREASURY

Internal Revenue Service

26 CFR Part 301

[TD 9253]

RIN 1545-AY92

Revisions to Regulations Relating to Witholding of Tax on Certain U.S. Source Income Paid to Foreign Persons and Revisions of Information Reporting Regulations

Correction

In rule document 06-2443 beginning on page 13003 in the issue of Tuesday, March 14, 2006, make the following correction:

§ 301.6114-1 [Corrected]

On page 13008, in § 301.6114-1, in the second column, the fifth and sixth lines, consisting of paragraphs (c)(8)(i) and (ii), should read as follows:

“defined in § 1.441-1(c)(23),

(ii) The exception contained in paragraph”.

[FR Doc. C6-2443 Filed 5-9-06; 8:45 am]

BILLING CODE 1505-01-D